DEPARTMENT OF DEFENSE

The Joint Staff; National Defense University (NDU), Board of Visitors (BOV); Meeting

AGENCY: National Defense University, DoD.

ACTION: Notice of meeting.

SUMMARY: The President, National Defense University has scheduled a meeting of the Board of Visitors.

DATES: The meeting will be held between 1230-1530 on June 23, 2000.

ADDRESSES: The meeting will be held in Room 155B, Marshall Hall, Building 62, Fort Lesley J. McNair, Washington, DC.

FOR FURTHER INFORMATION CONTACT: Director, University Operations, National Defense University Fort Lesley J. NcNair, Washington, D.C. 20319-6000. To reserve space, interested persons should phone (202) 685-3937.

SUPPLEMENTARY INFORMATION: The agenda will include present and future educational and research plans for the National Defense University and its components. The meeting is open to the public, but the limited space available for observers will be allocated on a first come, first served basis.

Dated: May 10, 2000.
L.M. Bynum,
Alternate OSD Federal Register Liaison Officer, Department of Defense.

[FR Doc. 00-12188 Filed 5-15-00; 8:45 am]

BILLING CODE 5001-10-M